NUCLEAR REGULATORY COMMISSION

[NRC-2010-0003]

Implementation of Open Government Directive

AGENCY: Nuclear Regulatory Commission.

ACTION: Solicitation of public comment.

SUMMARY: In response to the Office of Management and Budget's (OMB) December 8, 2009, Open Government Directive, which helps to implement the President's January 21, 2009, Memorandum on Transparency and Open Government, the Nuclear Regulatory Commission (NRC) is requesting public comment to aid the NRC's determination of what data sets it might be appropriate to publish online and what transparency, public participation, and collaboration improvements it might include as it drafts its Open Government Plan. The December 8, 2009, Directive generally instructs Federal agencies to identify and publish online in an open format at least three high-value data sets by January 22, 2010, and an Open Government Plan by April 7, 2010. While the Open Government Directive, by its terms, does not strictly apply to independent agencies like the NRC, the President has stated that independent agencies should comply with it. Accordingly, the NRC, in line with its longstanding commitment to openness and transparency, will endeavor to comply with the Open Government Directive and meet its deadlines. As part of this effort, the NRC will seek to identify and publish high-value data sets and draft an Open Government Plan, and the NRC is now inviting public comment on these matters. In addition, if a draft Open Government Plan is developed sufficiently prior to the April 7, 2010, deadline to allow time for meaningful public comment on the draft, the draft will be posted on the NRC's forthcoming Open Government Web page. Comments on the draft Plan could then be submitted to the NRC via the Open Government Web page.

DATES: Submit comments regarding publication of high-value data sets as soon as possible to assure consideration for purposes of the Open Government Directive's January 22, 2010, deadline. However, even comments that are received too late for meaningful consideration with respect to the January 22 deadline are nonetheless welcome, because the NRC may decide to publish additional data sets at later dates. Submit comments on the NRC's Open Government Plan by February 10, 2010. Comments on the Open Government Plan that are received after this date will be considered during the initial development of the Open Government Plan if it is practical to do so, but the NRC is able to assure consideration only for comments received on or before this date.

ADDRESSES: Please include Docket ID NRC-2010-0003 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You may submit comments by any one of the following methods.

Federal Rulemaking Web site: Go to http://www.regulations.gov and search for documents filed under Docket ID NRC-2010-0003. Comments may be submitted electronically through this Web site. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Room O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

Federal Rulemaking Web site: Public comments and supporting materials related to this notice can be found at http://www.regulations.gov by searching on Docket ID: NRC-2010-0003.

NRC's Open Government Web page: Consistent with the Open Government Directive, the NRC plans to establish its Open Government Web page by February 6, 2010. The NRC's Open Government Web page will be located at http://www.nrc.gov/open. The NRC's Open Government Web page will offer opportunities to provide input to the NRC regarding the Open Government Plan, both before and after the plan is published.

FOR FURTHER INFORMATION CONTACT: James B. Schaeffer, Deputy Director, Office of Information Services, (301) 415-7330, James.Schaeffer@nrc.gov.

SUPPLEMENTARY INFORMATION: On December 8, 2009, the Director of the Office of Management and Budget issued an Open Government Directive, which helps to implement the President's January 21, 2009, Memorandum on Transparency and Open Government. According to the President's Memorandum, “independent agencies should comply with the Open Government Directive.” Therefore, consistent with the NRC's longstanding commitment to openness and transparency, the NRC will endeavor to comply with the Open Government Directive and meet its deadlines. The Open Government Directive is available on the Internet at http://www.whitehouse.gov/open/documents/open-government-directive, and the President's January 21, 2009, Memorandum is available at http://www.whitehouse.gov/the_press_office/Transparency_and_Open_Government.

The Open Government Directive instructs Federal agencies to “identify and publish online in an open format at least three high-value data sets * * * and register those data sets via Data.gov. These must be data sets not previously available online or in a downloadable format.” The Open Government Directive further states that “[h]igh-value information is information that can be used to increase agency accountability and responsiveness; improve public knowledge of the agency and its operations; further the core mission of the agency; create economic opportunity; or respond to need and demand as identified through public consultation.” The due date for publication of data sets under the Open Government Directive is January 22, 2010. The NRC will seek to meet that deadline and is currently investigating whether it has data sets appropriate for publication that would be of high value to the public but that are not currently publicly available online.

The Open Government Directive also instructs agencies to develop and publish Open Government Plans. An agency's Open Government Plan, according to the Open Government Directive, “is the public roadmap that details how [the] agency will incorporate the principles of the President's January 21, 2009, Memorandum on Transparency and Open Government into the core mission objectives of [the] agency.” Open Government Plans are to set forth how each agency plans to improve transparency, public participation and collaboration. Open Government Plans also are to describe at least one “flagship initiative” the agency is already implementing or will implement to improve transparency, public participation, or collaboration. The Open Government Directive has established April 7, 2010, as the due date for publication of agency Open Government Plans, and the NRC will seek to meet that deadline. The Open Government Directive, available at the Internet address listed above, provides further details on the contents of agency Open Government Plans.

To aid the NRC's efforts to determine what data sets might be appropriate to publish and what transparency, public participation, and collaboration improvements it might include in its Open Government Plan, the NRC is soliciting public comments. Comments regarding publication of data sets are requested as soon as possible in light of the January 22, 2010, target date for publication of data sets. Please note that there is not yet a draft available of the NRC's Open Government Plan, and the NRC is not yet certain when a draft will be available. If a draft is developed sufficiently prior to the April 7, 2010, deadline to allow time for meaningful public comment on the draft, the draft will be posted on the NRC's forthcoming Open Government Web page, which, consistent with the Open Government Directive, the NRC plans to establish by February 6, 2010. The NRC's Open Government Web page will be located at http://www.nrc.gov/open. The NRC's Open Government Web page will also itself offer opportunities to provide input to the NRC regarding the Open Government Plan, both before and after the plan is published. Once the Open Government Plan is published, updates would be scheduled to occur every 2 years, and opportunities for public input would be provided in connection with these updates as well. With respect to the Open Government Plan, the NRC is providing a 30-day comment period.

Dated at Rockville, Maryland this 4th day of January, 2010.
For the Nuclear Regulatory Commission.
R. William Borchardt,
Executive Director for Operations.

[FR Doc. 2010-228 Filed 1-8-10; 8:45 am]

BILLING CODE 7590-01-P